DEPARTMENT OF VETERANS AFFAIRS

[OMB Control No. 2900-0711]

Agency Information Collection Activity Under OMB Review: VBA Loan Guaranty Service Lender Satisfaction Survey

AGENCY: Loan Guaranty Service, Department of Veterans Affairs.

ACTION: Notice.

SUMMARY: In compliance with the Paperwork Reduction Act (PRA) of 1995, this notice announces that the Loan Guaranty Service, Department of Veterans Affairs, will submit the collection of information abstracted below to the Office of Management and Budget (OMB) for review and comment. The PRA submission describes the nature of the information collection and its expected cost and burden and it includes the actual data collection instrument.

DATES: Comments must be submitted on or before December 28, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0711” in any correspondence.

FOR FURTHER INFORMATION CONTACT: Cynthia Harvey-Pryor, Office of Quality, Privacy and Risk (OQPR), Department of Veterans Affairs, 810 Vermont Avenue NW., Washington, DC 20420, (202) 461-5870 or email cynthia.harvey-pryor@va.gov. Please refer to “OMB Control No. 2900-0711” in any correspondence.

SUPPLEMENTARY INFORMATION:

Authority: Public Law 104-13; 44 U.S.C. 3501-3521.

Title: VBA Loan Guaranty Service Lender Satisfaction Survey.

OMB Control Number: 2900-0711.

Type of Review: Extension of a currently approved collection.

Abstract: As part of the agency's continuing commitment to improve the services provided to veterans, VA will conduct the VBA Loan Guaranty Service Lender Satisfaction Survey. The proposed effort will measure lender satisfaction with the various aspects of the VA Home Loan Guaranty program.

An agency may not conduct or sponsor, and a person is not required to respond to a collection of information unless it displays a currently valid OMB control number. The Federal Register Notice with a 60-day comment period soliciting comments on this collection of information was published at 82 FR 38760 on August 15, 2017, pages 38760-38761.

Affected Public: Private sector.

Estimated Annual Burden: 69 hours.

Estimated Average Burden per Respondent: 15 minutes.

Frequency of Response: One time.

Estimated Number of Respondents: 275.

By direction of the Secretary.
Cynthia Harvey-Pryor,
Department Clearance Officer, Office of Quality, Privacy and Risk, Department of Veterans Affairs.

[FR Doc. 2017-25591 Filed 11-27-17; 8:45 am]

BILLING CODE 8320-01-P